DEPARTMENT OF ENERGY

Federal Energy Regulatory Commission

[Docket No. RC11-6-012]

North American Electric Reliability Corporation; Notice of Staff Review of Enforcement Programs

Commission staff coordinated with the staff of the North American Electric Reliability Corporation (NERC) to conduct the annual oversight of the Find, Fix, Track and Report (FFT) program, as outlined in the March 15, 2012 Order,¹ and the Compliance Exception (CE) Program, as proposed by NERC's September 18, 2015 annual Compliance Filing and accepted by delegated letter order.²

¹ North American Electric Reliability Corp., 138 FERC ¶ 61,193, at P 73 (2012) (discussing Commission plans to survey a random sample of FFTs submitted each year to gather information on how the FFT program is working).

² North American Electric Reliability Corp., Docket No. RC11-6-004, at 1 (Nov. 13, 2015) (delegated order) (accepting NERC's proposal to combine the evaluation of CEs with the annual sampling of FFTs).

Commission and NERC staff reviewed a sample of 63 noncompliances—29 of 215 total FFT noncompliances and 34 of 1,103 total CE noncompliances posted by NERC between October 2019 and September 2020.

Commission staff found that the FFT and CE programs are meeting expectations. The Regional Entities appropriately included all 63 of the sampled noncompliances in the FFT and CE programs, and all 63 FFTs and CEs were adequately remediated and the root cause of each noncompliance was clearly identified. Commission staff also reviewed the supporting information for these FFT and CE noncompliances and agreed with the final risk determinations, which clearly identified the factors affecting the risk prior to mitigation (such as potential and actual risk) and actual harm. Finally, Commission staff noted that the FFTs and CE noncompliances sampled did not contain any material misrepresentations by the registered entities.

Dated: August 24, 2021.
Kimberly D. Bose,
Secretary.

[FR Doc. 2021-18613 Filed 8-27-21; 8:45 am]

BILLING CODE 6717-01-P